DEPARTMENT OF HOMELAND SECURITY

Federal Emergency Management Agency

[Docket ID FEMA-2021-0002; Internal Agency Docket No. FEMA-B-2140]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Apache | Town of Eagar (21-09-0424P). | The Honorable Bryce Hamblin, Mayor, Town of Eagar, 22 West 2nd Street, Eagar, AZ 85925. | Public Works Department, 1162 South Water Canyon Road, Eagar, AZ 85925. | https://msc.fema.gov/portal/advanceSearch | Jul. 21, 2021 | 040103
Maricopa | City of Peoria (20-09-2036P). | The Honorable Cathy Carlat, Mayor, City of Peoria, 8401 West Monroe Street, Peoria, AZ 85345. | City Hall, 8401 West Monroe Street, Peoria, AZ 85345. | https://msc.fema.gov/portal/advanceSearch | Sep. 3, 2021 | 040050
Maricopa | City of Peoria (20-09-2066P). | The Honorable Cathy Carlat, Mayor, City of Peoria, 8401 West Monroe Street, Peoria, AZ 85345. | City Hall, 8401 West Monroe Street, Peoria, AZ 85345. | https://msc.fema.gov/portal/advanceSearch | Aug. 20, 2021 | 040050
Maricopa | City of Surprise (20-09-2202P). | The Honorable Skip Hall, Mayor, City of Surprise, 16000 North Civic Center Plaza, Surprise, AZ 85374. | Public Works Department, Engineering Development Services, 16000 North Civic Center Plaza, Surprise, AZ 85374. | https://msc.fema.gov/portal/advanceSearch | Aug. 6, 2021 | 040053
Maricopa | Unincorporated Areas of Maricopa County (20-09-2036P). | The Honorable Jack Sellers, Chairman, Board of Supervisors, Maricopa County, 301 West Jefferson Street, 10th Floor, Phoenix, AZ 85003. | Flood Control District Maricopa County, 2801 West Durango Street, Phoenix, AZ 85009. | https://msc.fema.gov/portal/advanceSearch | Sep. 3, 2021 | 040037
Maricopa | Unincorporated Areas of Maricopa County (20-09-2202P). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch | Aug. 6, 2021 | 040037
Pinal | Town of Superior (20-09-1494P). | The Honorable Mila Besich-Lira, Mayor, Town of Superior, 199 North Lobb Avenue, Superior, AZ 85173. | Town Hall, 199 North Lobb Avenue, Superior, AZ 85173. | https://msc.fema.gov/portal/advanceSearch | Aug. 5, 2021 | 040119
Pinal | Unincorporated Areas of Pinal County (20-09-1494P). | The Honorable Stephen Q. Miller, Chairman, Board of Supervisors, Pinal County, P.O. Box 827, Florence, AZ 85132. | Pinal County Engineering Division, 31 North Pinal Street, Building F, Florence, AZ 85132. | https://msc.fema.gov/portal/advanceSearch | Aug. 5, 2021 | 040077
California: Riverside | City of Corona (20-09-0482P). | The Honorable Jacque Casillas, Mayor, City of Corona, 400 South Vicentia Avenue, Corona, CA 92882. | City Hall, 400 South Vicentia Avenue, Corona, CA 92882. | https://msc.fema.gov/portal/advanceSearch | Sep. 14, 2021 | 060250
Colorado: El Paso | Unincorporated Areas of El Paso County (19-08-0704P). | Mr. Mark Waller, Chair, District 2 Commissioner, Centennial Hall, 200 South Cascade Avenue, Suite 100, Colorado Springs, CO 80903. | EL Paso County, Pikes Peak Regional Building Department, 2880 International Circle, Colorado Springs, CO 80910. | https://msc.fema.gov/portal/advanceSearch | Aug. 26, 2021 | 080059
Idaho:
Blaine | City of Ketchum (20-10-0739P). | The Honorable Neil Bradshaw, Mayor, City of Ketchum, P.O. Box 2315, Ketchum, ID 83340. | City Hall, 480 East Avenue North, Ketchum, ID 83340. | https://msc.fema.gov/portal/advanceSearch | Sep. 2, 2021 | 160023
Blaine | Unincorporated Areas of Blaine County (20-10-0739P). | Ms. Angenie McCleary, Vice Chair, Blaine County Commissioners, 206 1st Avenue South, Suite 300, Hailey, ID 83333. | Blaine County Planning & Zoning, 219 1st Avenue South, Suite 208, Hailey, ID 83333. | https://msc.fema.gov/portal/advanceSearch | Sep. 2, 2021 | 165167
Illinois: Kane | Village of Montgomery (21-05-0213P). | The Honorable Matthew Brolley, Village President, Village of Montgomery, 200 North River Street, Montgomery, IL 60538. | Village Hall, 200 North River Street, Montgomery, IL 60538. | https://msc.fema.gov/portal/advanceSearch | Sep. 10, 2021 | 170328
Kansas: Johnson | City of Shawnee (20-07-0627P). | The Honorable Michelle Distler, Mayor, City of Shawnee, City Hall, 11110 Johnson Drive, Shawnee, KS 66203. | City Hall, 11110 Johnson Drive, Shawnee, KS 66203. | https://msc.fema.gov/portal/advanceSearch | Sep. 1, 2021 | 200177
Nevada:
Elko | City of Elko (20-09-1987P). | The Honorable Reece Keener, Mayor, City of Elko, 1751 College Avenue, Elko, NV 89801. | City Hall, 1751 College Avenue, Elko, NV 89801. | https://msc.fema.gov/portal/advanceSearch | Aug. 5, 2021 | 320010
Washoe | City of Reno (21-09-0352P). | The Honorable Hillary Schieve, Mayor, City of Reno, 1 East 1st Street, Reno, NV 89501. | City Hall, 1 East 1st Street, Reno, NV 89501. | https://msc.fema.gov/portal/advanceSearch | Aug. 10, 2021 | 320020
Washoe | Unincorporated Areas of Washoe County (21-09-0352P). | The Honorable Bob Lucey, Chairman, Board of Commissioners, Washoe County, 1001 East 9th Street, Reno, NV 89512. | Washoe County Administration Building, Department of Public Works, 1001 East 9th Street, Reno, NV 89512. | https://msc.fema.gov/portal/advanceSearch | Aug. 10, 2021 | 320019
Ohio:
Fairfield | City of Lancaster (21-05-0317P). | The Honorable David L. Scheffler, Mayor, City of Lancaster, 104 East Main Street, Room 101, Lancaster, OH 43130. | City Building Department, 121 East Chestnut Street, Lancaster, OH 43130. | https://msc.fema.gov/portal/advanceSearch | Sep 8, 2021 | 390161
Fairfield | Unincorporated Areas of Fairfield County (21-05-0317P). | Mr. Dave Levacy, Commissioner, Fairfield County Commissioners, 210 East Main Street, Room 301, Lancaster, OH 43130. | Fairfield County Regional Planning Commission, 210 East Main Street, Room 104, Lancaster, OH 43130. | https://msc.fema.gov/portal/advanceSearch | Sep 8, 2021 | 390158
Oregon:
Lane | City of Eugene (20-10-1089P). | The Honorable Lucy Vinis, Mayor, City of Eugene, 101 West 10th Avenue, 2nd Floor, Eugene, OR 97401. | Planning Department, 99 West 10th Avenue, Eugene, OR 97401. | https://msc.fema.gov/portal/advanceSearch | Aug. 18, 2021 | 410122
Lane | Unincorporated Areas of Lane County (20-10-1089P). | Ms. Heather Buch, Commissioner, Board of County Commissioners, Lane County, Public Service Building, 125 East 8th Avenue, Eugene, OR 97401. | Lane County, Customer Service Center, 3050 North Delta Highway, Eugene, OR 97408. | https://msc.fema.gov/portal/advanceSearch | Aug. 18, 2021 | 415591
Washington:
King | City of Kent (21-10-0511P). | The Honorable Dana Ralph, Mayor, City of Kent, 220 4th Avenue South, Kent, WA 98032. | City Hall, 220 4th Avenue South, Kent, WA 98032. | https://msc.fema.gov/portal/advanceSearch | Aug. 27, 2021 | 530080
Yakima | City of Yakima (20-10-1163P). | The Honorable Patricia Byers, Mayor, City of Yakima, 129 North 2nd Street, Yakima, WA 98901. | City Hall, 129 North 2nd Street, Yakima, WA 98901. | https://msc.fema.gov/portal/advanceSearch | Sep. 7, 2021 | 530311
Yakima | Unincorporated Areas of Yakima County (20-10-1163P). | Mr. Ron Anderson, District 2, Commissioner, Yakima County, 128 North 2nd Street, Room 232, Yakima, WA 98901. | Yakima County Public Services, 128 North 2nd Street, Yakima, WA 98901. | https://msc.fema.gov/portal/advanceSearch | Sep. 7, 2021 | 530217
Wisconsin:
Brown | Village of Hobart (21-05-0115P). | Mr. Rich Heidel, President, Village of Hobart, 2990 South Pine Tree Road, Hobart, WI 54155. | Village Hall, 2456 Glendale Avenue, Green Bay, WI 54313. | https://msc.fema.gov/portal/advanceSearch | Sep. 6, 2021 | 550626
Ozaukee | City of Cedarburg (19-05-5425P). | The Honorable Mike O'Keefe, Mayor, City of Cedarburg, W63 N645 Washington Avenue, Cedarburg, WI 53012. | City Hall, W63 N645 Washington Avenue, Cedarburg, WI 53012. | https://msc.fema.gov/portal/advanceSearch | Aug. 25, 2021 | 550312
Ozaukee | Unincorporated Areas of Ozaukee County (19-05-5425P). | Mr. Lee Schlenvogt, Chairperson, Ozaukee County Board, 121 West Main Street, Port Washington, WI 53074. | Ozaukee County Administration Center, 121 West Main Street, Port Washington, WI 53074. | https://msc.fema.gov/portal/advanceSearch | Aug. 25, 2021 | 550310
Ozaukee | Village of Grafton (19-05-5425P). | Mr. James A. Brunnquell, Village President, Village of Grafton, 860 Badger Circle, Grafton, WI 53024. | Village Hall, 1971 Washington Street, Grafton, WY 53024. | https://msc.fema.gov/portal/advanceSearch | Aug. 25, 2021 | 550314

[FR Doc. 2021-12127 Filed 6-9-21; 8:45 am]

BILLING CODE 9110-12-P